DEPARTMENT OF HOUSING AND URBAN DEVELOPMENT

[Docket No. FR-7038-N-09]

60-Day Notice of Proposed Information Collection: FHA Catalyst: Multifamily Application Portal, OMB Control No.: 2502-0620

AGENCY: Office of the Assistant Secretary for Housing—Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: August 31, 2021.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW, Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: FHA Catalyst: Multifamily Application Portal.

OMB Approval Number: 2502-0620.

OMB Expiration Date: 5/31/2021.

Type of Request: Extension of currently approved collection.

Form Number: N/A.

Description of the need for the information and proposed use: The Department of Housing and Urban Development (HUD)/Federal Housing Administration's (FHA) Office of Multifamily Housing Programs (MFH) has developed a web-based portal for FHA-approved multifamily lenders to submit applications for FHA multifamily mortgage insurance to HUD electronically. The FHA Catalyst: Multifamily Application Portal (“FHA Catalyst”), was released in fall 2020 to aid in the collection of information for FHA multifamily mortgage insurance program applications. The National Housing Act (12 U.S.C. 1701 et seq.) and implementing regulations at 24 CFR parts 200-266 authorize HUD/FHA to administer the multifamily mortgage insurance programs. The specific authority to require a mortgage insurance application is found at 24 CFR 200.45(b): “[a]n application for a firm commitment must be made by an approved mortgagee for any project for which a mortgagor seeks mortgage insurance under the Act.”

FHA Catalyst allows FHA-approved multifamily lenders to submit electronic applications for FHA multifamily mortgage insurance and related documents to HUD through a web-based portal, and HUD staff are able to receive and download the documents from the portal. The system is designed to streamline existing processes for collecting information to administer FHA multifamily mortgage insurance programs; no new information will be collected as a result of FHA Catalyst. Prior to the COVID-19 pandemic, multifamily lenders submitted applications to HUD in USB and hard copy format via mail. Due to the pandemic, multifamily lenders are currently submitting electronic applications using various online file-sharing platforms (e.g., Dropbox) as a short-term solution. FHA Catalyst provides multifamily lenders and MFH with a central, secure portal and long-term solution for online application submissions that will be used for the duration of the COVID-19 pandemic and beyond. Hard copies and/or removable USB drives will no longer be required for applications submitted through FHA Catalyst once FHA Catalyst becomes mandatory.

Respondents (i.e., affected public): Business or other for-profit; individuals or households; not-for-profit intuitions; state, local, or tribal government.

Estimated Number of Respondents: 741.

Estimated Number of Responses: 741.

Frequency of Response: 1.

Average Hours per Response: 1.

Total Estimated Burden: 741.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. 3507.

Janet M. Golrick,
Acting, Chief of Staff for the Office of Housing, Federal Housing Administration.

[FR Doc. 2021-14146 Filed 7-1-21; 8:45 am]

BILLING CODE 4210-67-P